DEPARTMENT OF COMMERCE

International Trade Administration

(A-475-703)

Notice of Final Results of Antidumping Duty Administrative Review: Granular Polytetrafluoroethylene Resin From Italy

AGENCY: Import Administration, International Trade Administration, Department of Commerce.

EFFECTIVE DATE: January 17, 2007.

SUMMARY: The Department of Commerce (the Department) is conducting an administrative review of the antidumping duty order on granular polytetrafluoroethylene (PTFE) resin from Italy, covering the period August 1, 2004, through July 31, 2005. The review covers one producer/exporter of the subject merchandise, Solvay Solexis, Inc. and Solvay Solexis S.p.A. (collectively, Solvay). Based on our analysis of comments received, these final results differ from the preliminary results. The final results are listed below in the Final Results of Review section.

FOR FURTHER INFORMATION CONTACT: Salim Bhabhrawala, at (202) 482-1784; AD/CVD Operations, Office 1, Import Administration, International Trade Administration, U.S. Department of Commerce, 14th Street & Constitution Avenue, NW, Washington, DC 20230.

SUPPLEMENTARY INFORMATION:

Background

On September 28, 2005, the Department published the notice of initiation of this antidumping duty administrative review, covering the period August 1, 2004, through July 31, 2005 (the period of review, or POR). See Initiation of Antidumping and Countervailing Duty Administrative Reviews and Request for Revocation in Part, 70 FR 56631.

On September 11, 2006, the Department published the preliminary results of its administrative review of the antidumping duty order on Granular PTFE Resin from Italy. See Notice of Preliminary Results of Antidumping Duty Administrative Review: Granular Polytetrafluoroethylene Resin From Italy, 71 FR 53400 (Preliminary Results). We invited parties to comment on the Preliminary Results. On October 11, 2006, we received a case brief from Solvay. On October 17, 2006, we received a rebuttal brief from the petitioner.¹ Additionally, on September 15, 2006, the Department issued a section E supplemental questionnaire to Solvay. Solvay submitted its response to this questionnaire on October 6, 2006. On October 31, 2006, and November 6, 2006, the Department issued letters to all interested parties stating that it would accept comments and rebuttals, respectively, to remark upon issues strictly related to Solvay's October 6, 2006, response to the section E supplemental questionnaire. No parties submitted comments on Solvay's section E supplemental response.

¹ The petitioner is E.I. DuPont de Nemours & Company (DuPont).

Scope of the Review

The product covered by this order is granular PTFE resin, filled or unfilled. This order also covers PTFE wet raw polymer exported from Italy to the United States. See Granular Polytetrafluoroethylene Resin From Italy; Final Affirmative Determination of Circumvention of Antidumping Duty Order, 58 FR 26100 (April 30, 1993). This order excludes PTFE dispersions in water and fine powders. During the period covered by this review, such merchandise was classified under item number 3904.61.00 of the Harmonized Tariff Schedule of the United States (HTSUS). We are providing this HTSUS number for convenience and Customs and Border Protection (CBP) purposes only. The written description of the scope remains dispositive.

Analysis of Comments Received

All issues addressed in the case and rebuttal briefs by parties to this administrative review are addressed in the “Issues and Decision Memorandum” (Decision Memorandum) from Stephen J. Claeys, Deputy Assistant Secretary for Import Administration, to David M. Spooner, Assistant Secretary for Import Administration, dated January 9, 2007, which is hereby adopted by this notice. Attached to this notice, as an appendix, is a list of the issues which parties have raised and to which we have responded in the Decision Memorandum. Parties can find a complete discussion of all issues raised in this review and the corresponding recommendations in this memorandum, which is on file in the Central Records Unit (CRU), Room B-099 of the main Department building. In addition, a complete version of the Decision Memorandum can be accessed directly on the Web at ia.ita.doc.gov\frn. The paper copy and the electronic version of the Decision Memorandum are identical in content.

Changes Since the Preliminary Results

Based on our analysis of comments received, we made the following adjustments to the calculation methodology in determining the final dumping margins in the proceeding:

• We revised Solvay's U.S. warehousing expenses. See Comment 2 of the Decision Memorandum.

• We used the section E data reported by Solvay to the Department on October 6, 2006.

These adjustments are discussed in the Decision Memorandum and in the Memorandum to Julie Santoboni from Salim Bhabhrawala Re: 2004-2005 Administrative Review of the Antidumping Duty Order on Granular Polytetrafluoroethylene Resin from Italy Final Results Sales Calculation Memorandum - Solvay Solexis, Inc. and Solvay Solexis S.p.A. (Calculation Memorandum).

Final Results of Review

As a result of our review, we determine that the following weighted-average margin exists for the period of August 1, 2004, through July 31, 2005:

Exporter/Manufacturer | Weighted-Average Margin Percentage
Solvay Solexis, Inc. | 39.13

Assessment Rates

The Department shall determine, and the CBP shall assess, antidumping duties on all appropriate entries. In accordance with 19 CFR 351.212(b)(1), we have calculated importer-specific assessment rates by dividing the dumping margin found on the subject merchandise examined by the entered value of such merchandise. Where the importer-specific assessment rate is above de minimis we will instruct CBP to assess antidumping duties on that importer's entries of subject merchandise. The Department intends to issue appropriate instructions to CBP 15 days after the publication of these final results of review.

The Department clarified its “automatic assessment” regulation on May 6, 2003. See Antidumping and Countervailing Duty Proceedings: Assessment of Antidumping Duties, 68 FR 23954 (May 6, 2003). This clarification will apply to entries of subject merchandise during the period of review produced by the respondent for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Furthermore, the following deposit requirements will be effective for all shipments of the subject merchandise entered, or withdrawn from warehouse, for consumption on or after the publication date of these final results of administrative review, as provided by section 751(a)

of the Tariff Act of 1930, as amended (the Act): (1) for the exporter/manufacturer covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 46.46 percent, the “All Others” rate established in the less-than-fair-value investigation. See Final Determination of Sales at Less Than Fair Value: Granular Polytetrafluoroethylene Resin From Italy, 53 FR 26096 (July 11, 1988). These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305(a)(3). Timely written notification of the return/destruction of APO materials or conversion to judicial protective order is hereby requested. Failure to comply with the regulations and the terms of an APO is a sanctionable violation.

We are issuing and publishing these results and notice in accordance with sections 751(a)(1) and 777(i)(1) of the Act.

Dated: January 9, 2007.
David M. Spooner,
Assistant Secretary for Import Administration.

APPENDIX

Comment 1: Calculation of Solvay's General and Administrative (G&A) Expense Ratio

Comment 2: Clerical Error Allegation

[FR Doc. E7-551 Filed 1-16-07; 8:45 am]

BILLING CODE 3510-DS-S